DEPARTMENT OF HEALTH AND HUMAN SERVICES

Administration for Children and Families

Head Start Family Literacy Program

Program Office: Administration on Children, Youth and Families Head Start Bureau.

Funding Opportunity Title: Head Start Family Literacy Project.

Announcement Type: Cooperative Agreement.

Funding Opportunity Number: HHS-2005-ACF-ACYF-YL-0023.

CFDA Number: 93.600.

Due Date for Applications: September 8, 2005.

Executive Summary: The Administration for Children and Families (ACF), Administration on Children, Youth and Families (ACYF), Head Start Bureau, under the authority of Sections 640(a)(2)(C) and 648(c)(4) (42 U.S.C. 9843), is making available $3 million annually for each of the next five years, to support a cooperative agreement to provide family literacy training and technical assistance to Head Start and Early Head Start programs based on proven effective practices substantiated by research findings. This project will help grantees and delegate agencies nationwide to improve the quality and positive outcomes of family literacy services they provide. This includes programs serving American Indians, Alaska Natives, migrant and seasonal workers, and English language learners.

I. Funding Opportunity Description

Head Start is a national child development program that began in 1965. Early Head Start, which began in 1995, serves infants, toddlers and pregnant women. The Head Start Program Performance Standards establish the requirements for comprehensive child development services to be provided to all Head Start and Early Head Start children, their families, and pregnant women enrolled in Early Head Start. An essential feature of these programs is the integral involvement of parents, both in the development of their children and in the governance of local programs.

From the program's inception in 1965, Head Start has worked with parents to increase the social competence, including school readiness and later life success, of children from low-income families. The Program Performance Standards require that the curriculum address children's cognitive development, including language development and literacy. In addition to the requirements within Education and Early Childhood Development, there are sections that focus on the involvement of parents both in the development of their children and in the governance of local programs. In this respect, Head Start supports parents in being the first and most important teachers of their children. The Head Start Program also encourages parents' efforts to attain family self-sufficiency. Because adult illiteracy limits the economic self-sufficiency of families, Head Start focuses not only on children's emergent literacy, but also on family literacy, which includes adult education and skill development.

Since 1991, $9 million is awarded annually to Head Start grantees as part of their base funding to ensure that each local program, either directly or through partnerships, supports parents' efforts to address their adult literacy needs. This includes classes through which parents may acquire speaking and writing skills in English; and earning the GED or a high school diploma, which are generally a threshold to successful employment.

In 1999, the Head Start Bureau entered into a five-year cooperative agreement with the National Center for Family Literacy (NCFL). The work of NCFL effectively supported local programs through cluster trainings and on-site technical assistance. Also, supporting the goals of the President's Early Childhood Initiative, Good Start, Grow Smart, the National Center for Family Literacy and the Head Start Bureau have engaged parents in 2½ days of Parent Mentor training. This training is designed to increase the parents' understanding about the language and literacy development of preschool age children and everyday ways in which to support that development. In addition to enhancing the language and literacy skills of their Head Start child, these parents are mentoring other Head Start parents to do the same with their children.

The plans and services proposed by applicants under this announcement must include, at a minimum, balanced attention to the four components of family literacy as defined in the Head Start Act.

As defined in the 1998 reauthorization of the Head Start Act, the term “family literacy services” means services that are of sufficient intensity in terms of hours, and of sufficient duration, to make sustainable changes in a family, and that integrate all of the following activities:

(A) Interactive literacy activities between parents and their children.

(B) Training for parents regarding how to be the primary teacher for their children and full partners in the education of their children.

(C) Parent literacy training that leads to economic self-sufficiency.

(D) An age-appropriate education to prepare children for success in school and life experiences.

Priority Area

Help Head Start grantees and delegate agencies nationwide improve the quality and positive outcomes of family literacy.

Description

The Head Start Act, as amended in 1998, in Sections 640(a)(2)(C) and 648(c)(4) (42 U.S.C. 9843) requires the Secretary to provide technical assistance and training to Head Start agencies through an entity that has experience in the development and operation of successful family literacy services in order to improve the quality of family literacy services provided to enrolled families.

The proposed Family Literacy Program (FLP) plans and services must include, at a minimum, balanced attention to the four components of family literacy identified in the Head Start Act for all families, including English Language Learners. The FLP will provide research-supported training and technical assistance to Head Start and Early Head Start managers, staff, and parents on planning and delivery of high quality family literacy services that are of sufficient intensity and duration, and reflect sufficient coordination to ensure positive child and family outcomes. Applicants are encouraged to propose innovative strategies that are inclusive of diverse populations and include such approaches as mentoring, effective use of technology, and distance learning.

Applicants for the FLP must submit a five-year plan and strategies to enhance local program provision of high quality family literacy services. The plans and strategies must support local program compliance with the Head Start Program Performance Standards, other Head Start policies and regulations, and the provisions of the Head Start Reauthorization Act of 1998 (to be amended with any new Head Start Legislation).

II. Award Information

Funding Instrument Type: Cooperative Agreement.

Substantial Involvement With Cooperative Agreement:

Federal Involvement Roles and Responsibilities

Federal involvement in the Head Start Family Literacy Program will include substantial roles for the Head Start Bureau, which includes the American Indian and Native Alaskan Programs Branch, the Migrant and Seasonal Programs Branch, and the ACF Regional Offices.

Supporting the Head Start Family Literacy Program through a cooperative agreement will ensure that goals and objectives will be fully met and that the work will be in accord with the Head Start Program Performance Standards and other regulations, the Head Start Child Outcomes Framework, and the Head Start Act.

The close involvement of the Head Start Bureau in the implementation of this cooperative agreement will ensure that family literacy services will be sensitive and responsive to the challenges that Head Start families and staff encounter. It will ensure uniformity of content and quality of family literacy services to the families who are served in a variety of program settings, which are located in communities with varying levels of educational and training resources related to the language development and early literacy of young children and their families.

The Head Start Bureau will provide the time and expertise of the Federal Project Officer (FPO) to:

• Assist the Head Start Family Literacy Program staff in ensuring that the four components of family literacy will be available to all Head Start and Early Head Start families, including English language learners. The four components include:

—Interactive literacy activities between parents and their children.

—Training for parents regarding how to be the primary teacher for their children and full partners in the education of their children.

—Parent literacy training that leads to economic self-sufficiency.

—An age-appropriate education to prepare children for success in school and life experiences.

• Identify research-supported training and technical assistance applicable to the population served.

• Assist in the development of a training template and schedule for the provision of training and technical assistance to Head Start and Early Head Start managers, staff, and parents regarding planning and delivering high quality family literacy services at the local program level.

• Work in close accord with the Family Literacy Program to provide leadership and support to grantees and delegate agencies in order to ensure that high quality family literacy services are of sufficient intensity and duration, and reflect sufficient coordination to ensure positive child and family outcomes.

• Participate in national meetings of the Head Start Technical Assistance Network as convened by ACYF, as a means of supporting and assisting the Family Literacy Program staff in their collaboration with this important group of technical assistance providers.

• Join the staff of the Head Start Literacy Program in putting on workshop presentations at national meetings as approved by the Head Start Bureau.

• Facilitate and support the Head Start Family Literacy Program's communications and coordination with the Federal Regional Offices (I-X), the Migrant and Seasonal Programs Branch, and the American Indian and Native Alaskan Programs Branch.

• Meet with the Head Start Family Literacy Program staff bi-monthly to assess progress regarding the scope of work of the cooperative agreement, and to provide guidance, direction, and information regarding possible changes in national Head Start policy or initiatives.

Early Head Start and Head Start grantees and delegate agencies will direct all inquiries regarding family literacy to the Head Start Family Literacy Program.

Anticipated Total Priority Area Funding: $3,000,000.

Anticipated Number of Awards: 1.

Ceiling on Amount of Individual Awards: $3,000,000 per budget period.

Floor on Amount of Individual Awards: $3,000,000 per budget period.

Average Projected Award Amount: $3,000,000 per budget period.

Length of Project Periods: 60-month project with five 12-month budget periods.

III. Eligibility Information

1. Eligible Applicants

• State controlled institutions of higher education.

• Non-profits having a 501(c)(3) status with the IRS, other than institutions of higher education.

• Non-profits that do not have a 501(c)(3) status with the IRS, other than institutions of higher education.

• Private institutions of higher education.

• For-profit organization other than small businesses.

• Small businesses.

• Others (See Additional Information on Eligibility below.)

Additional Information on Eligibility: Eligible applicants are agencies or organizations with expertise in literacy training. These include colleges and universities, private or public non-profit or for-profit organizations or associationsin the field of adult literacy education and family studies. Only incorporated agencies and organizations are eligible to apply. Faith-based and community organizations are eligible applicants under this announcement. Individuals are not eligible to apply under this announcement.

On all applications developed jointly by more than one agency or organization, the application must identify only one organization as the lead organization and the official applicant. The other organizations may be included as partners, participants, sub-grantees or sub-contractors.

2. Cost Sharing/Matching: None

3. Other

All applicants must have a Dun & Bradstreet number.On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.grants.gov/). A DUNS number will be required for every application for a new award or renewal/continuation of an award, including applications or plans under formula, entitlement and block grant programs, submitted on or after October 1, 2003.

Please ensure that your organization has a DUNS number.You may acquire a DUNS number at no cost by calling the dedicated toll-free DUNS number request line on 1-866-705-5711 or you may request a number on-line at http://www.dnb.com/.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Disqualification Factors: Applications that exceed the ceiling amount will be considered non-responsive and will not be considered for funding under this announcement.

Any application that fails to satisfy the deadline requirements referenced in Section IV.3 will be considered non-responsive and will not be considered for funding under this announcement.

IV. Application and Submission Information

1. Address to Request Application Package

The Head Start Family Literacy Project, The Dixon Group, ACYF Operations Center, 118 Q Street, NE., Washington, DC 20002, Phone: 1-800-351-2293; E-mail: HSB@Dixongroup.com.

2. Content and Form of Application Submission

Standard instructions for application content can be found in Section V. Application Review Information, 1. Criteria. Applicants are advised to follow the format outlined in Section V. Evaluation Criteria in order to address the Head Start specific requirements of this expansion announcement. Additional application submission requirements are provided below.

You may submit your application to us in either electronic or paper format. To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4726 to report the problem and obtain assistance with the system.

• To use Grants.gov, you, as the applicant, must have a DUNS Number and register in the Central Contractor Registry (CCR).You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.grants.gov/.

• You must search for the downloadable application package by the CFDA number.

Applicants that are submitting their application in paper format should submit an original and two copies of the complete application. The original and each of the two copies must include all required forms, certifications, assurances, and appendices, be signed by an authorized representative, have original signatures, and be submitted unbound.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1 for instructions on preparing the full project description.

3. Submission Dates and Times

Due Date for Applications: September 8, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any Application Received After 4:30 P.M. Eastern Time on the Deadline Date Will Not Be Considered for Competition

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will be provided to applicants who submit their package via mail, courier services, or by hand delivery. Applicants will receive an electronic acknowledgement for applications that are submitted via http://www.grants.gov/.

Checklist: You may use the checklist below as a guide when preparing your application package.

What to submit | Required content | Required form or format | When to submit
SF 424 | See Section IV.2. | See http://www.acf.hhs.gov/programs/ofs/forms.htm | By application due date.
Project Abstract | See Sections IV.2. and V | Found in Sections IV.2. and V | By application due date.
Table of Contents | See Section IV.2 | Found in Section IV.2 | By application due date.
Project Description | See Sections IV.2. and V | Found in Sections IV.2. and V | By application due date.
SF 424A | See Section IV.2 | See http://www.acf.hhs.gov/programs/ofs/forms.htm | By application due date.
SF 424B | See Section IV.2 | See http://www.acf.hhs.gov/programs/ofs/forms.htm | By application due date.
Budget Narrative/Justification | See Sections IV.2. and V | Found in Sections IV.2 and V | By application due date.
Support Letters | See Section V | Found in Section V | By application due date.
Proof of Non-Profit Status | See Section III.3 | Found in Section III.3 | By date of award.
Assurances | See Section IV.2 | See http://www.acf.hhs.gov/programs/ofs/forms.htm | By date of award.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

Construction and/or purchase of real property are not allowable expenditures under this agreement.

6. Other Submission Requirements

Submission by Mail: An applicant must provide an original application with all attachments, signed by an authorized representative and two copies. Please see Section IV.3 for an explanation of due dates. Applications should be mailed to: ACYF Operations Center, The Head Start Family Literacy Project, 118 Q Street, NE., Washington, DC 20002.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: ACYF Operations Center, Head Start Family Literacy Project, 118 Q Street, NE., Washington, DC 20002.

Electronic Submission: Please see Section IV.2 for guidelines and requirements when submitting applications electronically via http://www.grants.gov/.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Part II—General Instructions for Preparing a Full Project Description

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—35 points

Applications will be reviewed and evaluated to the extent that they:

Describe the conceptual framework or model that will guide the design and implementation of training and technical assistance (T/TA) to strengthen family literacy services and the internal capacities and partnerships of Head Start and Early Head Start grantees over the potential five year project period. Demonstrate a clear understanding of the definition of family literacy and propose strategies for strengthening all four of its component elements. Demonstrate knowledge of the current Head Start TA Network and electronic learning center.

Outline an initial plan of action which describes the scope and detail of how the proposed work will be accomplished. Describe any unusual features of the project, such as design or technological innovations, reductions in cost or time, or extraordinary social and community involvement.

Provide a rationale for the proposed model and describe how it will lead to improvements in the skills and effectiveness of Head Start staff and the implementation of appropriate family literacy strategies in different programs and community settings.

Propose an initial action plan for T/TA services and strategies for the first year of the project, and a discussion of how subsequent services will be adapted and improved based on initial experiences. Discuss optimal approaches including identifying and utilizing exemplary Head Start family literacy programs and other successful family literacy models as sources of training and technical assistance, uses of technology and distance learning, development of publications and media resources, and direct training of staff, managers, and parents.

Describe strategies for adapting T/TA services to programs which vary on dimensions such as, (a) Different levels of development in carrying out family literacy activities; (b) targeted needs in specific elements of family literacy, such as improving the quality of children's literacy experiences; enhancing the involvement of parents in the literacy experiences of their children and enhancing opportunities for parents' participation in ESL, GED, or self-sufficiency/work experiences; (c) serving American Indians, Alaska Natives, and migrant children and parents, and families whose home language is not English; (d) providing services through center-based, home-based, and combination program options or through partnership arrangements with family child care and child care centers; (e) Early Head Start grantees and programs serving teen parents; and (f) serving large numbers of parents who are employed, are in employment training, or in other educational settings.

Provide a proposed timeline for the implementation of the project, including planning and start-up, phased implementation and training, and a proposed strategy for making services available to all Head Start and Early Head Start programs over the 5 year period of the project.

Describe how the Family Literacy Project (FLP) will disseminate information about its services; and how initial programs and trainees will be recruited and selected to participate in FLP services. Discuss any proposed procedures for assessing program and staff needs for training and technical assistance.

Describe how the FLP proposes to work with the existing Head Start T/TA network, Head Start State Collaboration Offices, ACF Regional Offices, and the Head Start Bureau to implement this project.

Describe how the FLP will complement other program improvement initiatives and systems of Head Start, including program monitoring, local agency plans, and other training and technical assistance resources. Discuss opportunities for FLP training to link teachers with college degrees in early childhood education, including the potential for Head Start staff to earn academic credit, linked to A.A. or B.A. degrees for FLP training.

Describe any proposed efforts to link FLP planning and services with other family literacy resources at the federal, state, or local level, such as libraries, museums, Even Start, Basic Education, GED, or higher education.

Organizational Profiles—25 points

Applications will be reviewed and evaluated to the extent that they:

Provide a biographical sketch for each key project person, and a job description for each vacant key position. A biographical sketch will also be required for new key staff, as they are hired.

Describe the proposed organizational structure that will support the project objectives, including any proposed subcontractors or partnership arrangements, and how the proposed structure will support balanced, comprehensive, high quality family literacy services.

Indicate a proposed staffing strategy including key staff positions, major functions and responsibilities. Describe the role and responsibility of any experts and/or consultants that may be used as the FLP is designed and implemented.

Demonstrate competency and experience of the organization in developing and enhancing successful family literacy services for programs serving infants, toddlers and preschoolers, pregnant women and their families, and providing effective training and technical assistance to such programs.

Describe past and current initiatives that demonstrate organizational capacity to adapt and improve training and technical assistance efforts based on evaluation results and participant feedback.

Describes any past or ongoing partnerships or collaborations involving the organization and how they (or this experience) will be used to support the Head Start family literacy effort.

Describe the capability of the organization to provide training and technical assistance in all four of the legislatively-defined elements of family literacy and in integrating these elements within local programs.

Identify a cadre of research experts and trainers, to be utilized either as staff or consultants, who will be instrumental in the design and implementation of the FLP. This cadre of experts should have expertise in the areas of children's language and literacy development, adult literacy, and language development for English language learners.

Describe the capability of the organization to write and edit training and other material, as well as support distance and web-based learning of learners at varying educational levels.

Include an Appendix to the narrative consisting of support letters that document the demonstrated competence of the organization and proposed subcontractors or partners regarding successful partnership and service relationships with Head Start and Early Head Start programs, family literacy providers, and the Head Start technical assistance system.

Budget and Budget Justification—15 points

Applications will be reviewed and evaluated to the extent that they:

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocation of the proposed costs.

Results or Benefits Expected—15 points

Applications will be reviewed and evaluated to the extent that they:

Identify the specific results or benefits that could be expected for the Head Start and Early Head Start grantees, for staff, for enrolled children, their families, and communities.

Identify both qualitative and quantitative data the FLP will collect to measure progress towards the stated results or benefits. Identify how the program will determine the extent to which it has achieved its stated goals and objectives.

Provide a plan for distribution of reports and other project outputs to the Head Start community, the academic community, and to the public. Applicants must provide a description of the kind, volume and timing of distribution.

Objectives and Need for Assistance—10 Points

Applications will be reviewed and evaluated to the extent that they:

Set the context for family literacy services in the Head Start and Early Head Start programs nationwide. Include demographic information on the population(s) to be served, in terms of programs, families, and communities, as well as the pertinent research on the relationship of family literacy to future school success of children and the well-being of their families.

State the goals and objectives for the program. Indicate how these goals and objectives are related to the overall purposes, policies and standards governing Head Start, Early Head Start, and other family literacy programs.

Discuss the changing needs for family literacy services by low-income families with young children, including families where the home language is not English. Discuss the implications of this information for future efforts by Head Start, and identify the ways this project will address these areas.

Describe the strengths of Head Start/Early Head Start family literacy efforts (including exemplary models in local community programs) and areas for program improvement in each of the four legislatively mandated areas. Identify and describe current patterns of partnerships among Head Start, Even Start, and other family literacy and early childhood agencies and resources including, for example, child care, libraries and museums, and mentoring programs.

Discuss priority needs for training and technical assistance to improve the quality, intensity, duration and coordination of services; child and family outcomes; internal agency capacities; and partnership efforts to improve Head Start family literacy services.

2. Review and Selection Process

No grant award will be made under this announcement on the basis of an incomplete application.

A panel of four non-Federal reviewers will be convened in Washington, DC, to read and score each application based on the published criteria. The panel's scores and recommendations will be forwarded to the ACYF Commissioner who will make the ultimate selection.

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

Direct Federal grants, sub-award funds, or contracts under this ACF program shall not be used to support inherently religious activities such as religious instruction, worship, or proselytization. Therefore, organizations must take steps to separate, in time or location, their inherently religious activities from the services funded under this Program. Regulations pertaining to the Equal Treatment For Faith-Based Organizations,which includes the prohibition against Federal funding of inherently religious activities, can be found at either 45 CFR 87.1 or the HHS Web site at: http://www.os.dhhs.gov/fbci/waisgate21.pdf.

3. Reporting Requirements

Grantees will be required to submit program progress and financial reports (SF-269 found at http://www.acf.hhs.gov/programs/ofs/forms.htm) throughout the project period. Program progress and financial reports are due 30 days after the reporting period. Final programmatic and financial reports are due 90 days after the close of the project period.

Program Progress Reports: Quarterly.

Financial Reports: Quarterly.

VII. Agency Contacts

Program Office Contact: Willa Siegel, Administration on Children, Youth and Families, Head Start Bureau, 330 C Street, SW., Washington, DC 20447; Phone: 202-205-4011; E-mail: WSiegel@acf.hhs.gov.

Grants Management Office Contact: Delores Dickerson, Grants Officer, Administration on Children and Families, 330 C Street, SW., Room 2218, Washington, DC 20447; Phone: 202-260-7622; E-mail: dedickenson@acf.hhs.gov.

VIII. Other Information

Notice: Beginning with FY 2006, the Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

Please reference Section IV.3 for details about acknowledgement of received applications.

Dated: July 18, 2005.
Joan E. Ohl,
Commissioner, Administration on Children, Youth and Families.

[FR Doc. 05-14558 Filed 7-22-05; 8:45 am]

BILLING CODE 4184-01-P